DEPARTMENT OF COMMERCE

National Oceanic and Atmospheric Administration

Availability of Seats for the Stellwagen Bank National Marine Sanctuary Advisory Council

AGENCY: National Marine Sanctuary Program (NMSP), National Oceanic and Atmospheric Service (NOS), National Oceanic and Atmospheric Administration, Department of Commerce (DOC).

ACTION: Notice and request for applications.

SUMMARY: The Stellwagen Bank National Marine Sanctuary (SBNMS) is seeking applicants for the following vacant seats on its Sanctuary Advisory Council: Whale Watching (Member), Education (Alternate), and Business and Industry (Member and Alternate). Applicants are chosen based upon their particular expertise and experience in relation to the seat for which they are applying; community and professional affiliations; philosophy regarding the protection and management of marine resources; and possibly the length of residence in the area affected by the Sanctuary. Applicants who are chosen as members should expect to serve 2-3 years terms, pursuant to the Council's Charter.

DATES: Applications are due by April 1, 2005.

FOR FURTHER INFORMATION CONTACT: Application kits may be downloaded from Stellwagan bank Web site: http://stellwagen.nos.noaa.gov/ or obtained from Ruthetta.Halbower@noaa.gov or Ruthetta Halbower 175 Edward Foster Road Scituate, MA 02066. Completed applications should be sent to the same address.

SUPPLEMENTARY INFORMATION: The Council of SBNMS was originally established in 1992. The current Council was established in October 2001. The Council has 21 members covering the wide spectrum of interests in the region, with fifteen voting seats representing various facets of the community including conservation, education, research, fishing, whale watching, recreation, business/industry, and the community at large. The remaining ex-officio seats represent the SBNMS's state and federal partners. The Council generally meets four times a year.

Authority: 16 U.S.C. Sections 1431, et seq.

(Federal Domestic Assistance Catalog Number 11.429 Marine Sanctuary Program)
Dated: February 18, 2005.
Daniel J. Basta,
Director, National Marine Sanctuary Program, National Ocean Services, National Oceanic and Atmospheric Administration.

[FR Doc. 05-4392 Filed 3-7-05; 8:45 am]

BILLING CODE 3510-NK-M